DEPARTMENT OF DEFENSE

Department of the Army

Interim Change to the Military Freight Traffic Unified Rules Publication (MFTURP) No. 1

AGENCY: Department of the Army, DoD.

SUMMARY: The Military Surface Deployment and Distribution Command (SDDC) is providing notice that it has released an interim change to the MFTURP No. 1. The interim change updates Section A.II.D.6 to align the safety requirements for transportation protective service (TPS) carriers with the Department of Transportation's (DOT) Federal Motor Carrier Safety Administration (FMCSA) scoring system.

ADDRESSES: Submit comments to Publication and Rules Manager, Strategic Business Directorate, Business Services, 1 Soldier Way, Building 1900W, ATTN: SDDC-OPM, Scott AFB, 62225. Request for additional information may be sent by e-mail to: chad.t.privett@us.army.mil or george.alie@us.army.mil.

FOR FURTHER INFORMATION CONTACT: Mr. Chad Privett, (618) 220-6901, or Mr. George Alie, (618) 220-5870.

SUPPLEMENTARY INFORMATION:

Reference: Military Freight Traffic Unified Rules Publications (MFTURP) No. 1.

Background: The MFTURP No. 1 governs the purchase of surface freight transportation in the Continental United States (CONUS) by DoD using Federal Acquisition Regulation (FAR) exempt transportation service contracts.

Miscellaneous: This publication, as well as the other SDDC publications, can be accessed via the SDDC Web site at: http://www.sddc.army.mil/GCD/default.aspx.

Dated: September 14, 2011.
Evert Bono,
Chief, SDDC-G9,Special Requirements.

[FR Doc. 2011-24492 Filed 9-22-11; 8:45 am]

BILLING CODE 3710-08-P